DEPARTMENT OF COMMERCE

National Oceanic and Atmospheric Administration

[RTID 0648-XA905]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Mackerel Advisory Panel (AP) via webinar.

DATES: The webinar will convene on Wednesday, March 24, 2021, from 9 a.m. to 5 p.m., EDT.

ADDRESSES: The meeting will be held via webinar. Visit the Gulf Council website for registration and log in information.

Council address: Gulf of Mexico Fishery Management Council, 4701 W. Spruce Street, Suite 200, Tampa, FL 33607; telephone: (813) 348-1630.

FOR FURTHER INFORMATION CONTACT: Dr. Natasha Mendez-Ferrer, Fishery Biologist, Gulf of Mexico Fishery Management Council; natasha.mendez@gulfcouncil.org; telephone: (813) 348-1630.

SUPPLEMENTARY INFORMATION: The following items are on the agenda, though agenda items may be addressed out of order (changes will be noted on the Council's website when possible).

Wednesday, March 24, 2021; 9 a.m.-5 p.m.; EDT

The meeting will begin with Introduction; Election of Chair and Vice-Chair;

Adoption of Agenda; Approval of Minutes from the October 9, 2018 webinar; and, review of Scope of Work with its members.

The AP will receive an update on the Coastal Migratory Pelagic Landings; SEDAR 28 Update: Gulf Migratory Group Cobia—with presentations on the stock assessment and results, Something's Fishy, and Draft Management Alternatives. The AP will then provide recommendations.

Following lunch, the AP will receive an update on SEDAR 38: Gulf of Mexico King Mackerel—with presentations on the stock assessment and results, Something's Fishy, and scoping of management alternatives. The AP will then provide recommendations.

The AP will receive a summary on the Coastal Migratory Pelagics Amendment 34 for Atlantic King Mackerel; and will review a presentation and discuss Commercial Electronic Logbooks.

The AP will receive any public comment; and discuss any Other Business items.

—Meeting Adjourns

The meeting will be held via webinar. You may register for the webinar by visiting www.gulfcouncil.org and clicking on the Mackerel Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take-action to address the emergency.

Authority: 16 U.S.C. 1801 et seq.

Dated: February 25, 2021.
Tracey L. Thompson,
Acting Deputy Director, Office of Sustainable Fisheries, National Marine Fisheries Service.

[FR Doc. 2021-04266 Filed 3-1-21; 8:45 am]

BILLING CODE 3510-22-P